NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates/Time: June 12, 2003, 8:30 a.m.-5 p.m. and June 13, 2003, 8:30 a.m.-1:30 p.m.

Place: National Science Foundation, 4201 Wilson Boulevard, Arlington, VA, Room 1235S).

Type of Meeting: Open.

Contact Person: Dr. Margaret E.M. Tolbert, Executive Liaison, CEOSE, Office of Intergrative Activities, National Science Foundation, 4201 Wilson Boulevard, Arlington, VA 22230, Telephone: (703) 292-8040.

Minutes: May be obtained from the Executive Liaison at the above address.

Purpose of Meeting: To provide advice and recommendations concerning broadening participation in science and engineering.

Agenda

Thursday, June 12, 2003

Presentation and Discussion of the Office of Science and Technology's Focus on Science and Mathematics and the Status of Underrepresented Groups

Discussion of Workforce 21 and the National Science Board Views on This Topic

Discussion of NSF's Programs in Relationship to the CEOSE Mandate

Reports on NSF Advisory Committees

Reports by CEOSE Ad Hoc Subcommittees Chairs

Friday, June 13, 2003

Discussion of CEOSE and its impact on NSF

Special Reports

Refinement of Recommendations Resulting from Ad Hoc Subcommittee Reports

Dated: May 13, 2003.
Susanne Bolton,
Committee Management Officer.

[FR Doc. 03-12386 Filed 5-16-03; 8:45 am]

BILLING CODE 755-01-M